CONSUMER PRODUCT SAFETY COMMISSION

[Docket No. CPSC 2009-0088]

Submission for OMB Review; Comment Request—Third Party Conformity Assessment Body Registration Form

AGENCY: Consumer Product Safety Commission.

ACTION: Notice.

SUMMARY: In the Federal Register of April 19, 2013 (76 FR 23545), the Consumer Product Safety Commission (CPSC or Commission) published a notice in accordance with provisions of the Paperwork Reduction Act of 1995 (44 U.S.C. Chapter 35), to announce the CPSC's intention to seek extension of an approval of information collection regarding a form used to evaluate whether third party conformity assessment bodies meet the requirements to test for compliance to specified children's product safety rules.

No comments were received in response to that notice. Therefore, by publication of this notice, the Commission announces that it has submitted to the Office of Management and Budget (OMB), a request for extension of approval of those collections of information, without change.

DATES: Fax comments to OMB not later than August 5, 2013.

ADDRESSES: OMB recommends that written comments be faxed to the Office of Information and Regulatory Affairs, OMB, Attn: CPSC Desk Officer, FAX: 202-395-6974, or emailed to oira_submission@omb.eop.gov. All comments should be identified by Docket No. CPSC-2009-0088. In addition, written comments also should be submitted at: http://www.regulations.gov, under Docket No. CPSC-2009-0088, or by mail/hand delivery/courier (for paper, disk, or CD-ROM submissions), preferably in five copies, to: Office of the Secretary, U.S. Consumer Product Safety Commission, Room 820, 4330 East West Highway, Bethesda, MD 20814; telephone (301) 504-7923. For access to the docket to read background documents or comments received, go to http://www.regulations.gov.

FOR FURTHER INFORMATION CONTACT: Robert H. Squibb, Consumer Product Safety Commission, 4330 East West Highway, Bethesda, MD 20814; (301) 504-7815, or by email to: rsquibb@cpsc.gov.

SUPPLEMENTARY INFORMATION: Request for Renewal of Approval of Collection of Information. The Consumer Product Safety Improvement Act of 2008 (CPSIA) requires third party testing to be conducted by a third party conformity assessment body for any children's product that is subject to a children's product safety rule before importing for consumption or warehousing or distributing in commerce. To assess a third party conformity assessment body's qualifications for acceptance by CPSC, information related to location, accreditation, and ownership must be collected from the third party conformity assessment body. The CPSC uses an online collection form, CPSC Form 223, to gather information from third party conformity assessment bodies seeking acceptance by CPSC. The information collected relates to location, accreditation, and ownership. Commission staff uses this information to assess:

• A third party conformity assessment body's status as either an independent third party conformity assessment body, a government-owned or government-controlled conformity assessment body, or a firewalled conformity assessment body;

• Qualifications for acceptance by CPSC to test for compliance to specified children's product safety rules; and

• Eligibility for acceptance on the CPSC Web site.

On March 12, 2013, the Commission published a final rule (16 CFR part 1112) in the Federal Register regarding the requirements for third party conformity assessment bodies. The final rule became effective on June 10, 2013. Now that 16 CFR part 1112 is in effect, the rule will require the collection of information in CPSC Form 223:

• Upon initial application by the third party conformity assessment body for acceptance by CPSC;

• At the time any of the information on the CPSC Form 223 changes; and

• At least every two years, as part of a regular audit process.

A. Estimated Burden

The CPSC estimates the burden of the collection of information in CPSC Form 223 is as follows:

Estimated Annual Reporting Burden
Activity | Number of respondents | Frequency of responses | Total annual responses | Hours per response | Total hours
Initial Registration | 55 | 1 | 55 | 1 | 55
Re-Registration | 204 | 1 | 204 | 1 | 204
Changes in Information | 3 | 1 | 3 | 0.25 | 0.75
Total |  |  |  |  | 259.75

These estimates are based on the following information:

• From March 19, 2012 to March 19, 2013, 56 new third party conformity assessment bodies were accepted by the CPSC. Since 2011, the number of new third party conformity assessment bodies (53) accepted by the CPSC has remained stable. Based on these historical levels of acceptance, the estimated number of third party conformity assessment bodies that would be accepted by CPSC would be 55.

• Under the final rule, 16 CFR part 1112, third party conformity assessment bodies are required to resubmit CPSC Form 223 every two years. Because all third party conformity assessment bodies have not submitted their initial CPSC Form 223s at the same time, only some portion would be expected to resubmit a CPSC Form 223 in any one year. Based on the two year resubmission requirement, we estimate that approximately half of the third party conformity assessment bodies would be required to resubmit in any one year. As of March 2013, 409 third party conformity assessment bodies have been accepted by CPSC for testing. Approximately half (204) of these firms would be expected to resubmit with CPSC in any given year.

• Under the final rule, 16 CFR part 1112, third party conformity assessment bodies are required to keep the information submitted on CPSC Form 223 up to date and submit a new CPSC Form 223 whenever the information on the CPSC Form 223 changes. Based on current experience with third party conformity assessment bodies, CPSC staff estimates that third party conformity assessment bodies will make no more than three revisions per year to update applicable Form 223 information. A “change in information” is a change that does not require review of laboratory accreditation documents, such as scope or test methods. Examples of revised information include: changes in the Web site URL; changes in the name of the laboratory; and a change of the point of contact.

The total burden is estimated at 259.75 hours, which is rounded up to 260 hours. CPSC staff estimates that hourly compensation for the time required for recordkeeping is $27.12 per hour (U.S. Bureau of Labor Statistics, “Employer Costs for Employee Compensation,” Table 9, total compensation for sales, office, and related workers in goods-producing industries: http:www.bls.gov/ncs). The total cost burden to the respondents is approximately $7,052 ($27.12 × 260 hours = $7,051.20).

Dated: July 1, 2013.
Todd A. Stevenson,
Secretary, Consumer Product Safety Commission.

[FR Doc. 2013-16121 Filed 7-3-13; 8:45 am]

BILLING CODE 6355-01-P